DEPARTMENT OF ENERGY

Federal Energy Regulatory Commission

[Project No. 7320-040]

Erie Boulevard Hydropower, L.P.; Notice of Intent To File License Application, Filing of Pre-Application Document, and Approving Use of the Traditional Licensing Process Procedures

August 13, 2010.

a. Type of Filing: Notice of Intent to File License Application and Request to Use the Traditional Licensing Process Procedures.

b. Project No.: 7320-040.

c. Dated Filed: June 29, 2010.

d. Submitted By: Erie Boulevard Hydropower, L.P.

e. Name of Project: Chasm Hydroelectric Project.

f. Location: On the Salmon River, in Franklin County, New York. No federal lands are occupied by the project works or located within the project boundary.

g. Filed Pursuant to: 18 CFR 5.3 of the Commission's regulations.

h. Potential Applicant Contact: Steven Murphy, Compliance Specialist, Brookfield Renewable Power—New York West Operations, 33 West 1st Street South, Fulton, NY, 13069; (315) 589-6130; e-mail—steven.murphy@brookfieldpower.com

i. FERC Contact: John Mudre at (202) 502-8902; or e-mail at john.mudre@ferc.gov.

j. Erie Boulevard Hydropower, L.P. (Erie) filed its request to use the Traditional Licensing Process Procedures on June 29, 2010. Erie provided public notice of its request on June 25 and June 27, 2010. In a letter dated August 12, 2010, the Director of the Office of Energy Projects approved Erie's request to use the Traditional Licensing Process.

k. With this notice, we are initiating informal consultation with: (a) the U.S. Fish and Wildlife Service under section 7 of the Endangered Species Act and the joint agency regulations thereunder at 50 CFR part 402; and (b) the New York State Historic Preservation Officer, as required by section 106, National Historical Preservation Act, and the implementing regulations of the Advisory Council on Historic Preservation at 36 CFR 800.2.

l. With this notice, we are designating Erie as the Commission's non-federal representative for carrying out informal consultation, pursuant to section 7 of the Endangered Species Act, and section 106 of the National Historic Preservation Act.

m. Erie filed a Pre-Application Document (PAD; including a proposed process plan and schedule) with the Commission, pursuant to 18 CFR 5.6 of the Commission's regulations.

n. A copy of the PAD is available for review at the Commission in the Public Reference Room or may be viewed on the Commission's Web site using the “eLibrary” link (http://www.ferc.gov/docs-filing/elibrary.asp). Enter the docket number, excluding the last three digits in the docket number field to access the document. For assistance, contact FERC Online Support at FERCONlineSupport@ferc.gov or toll free at 1-866-208-3676, or for TTY, (202) 502-8659. A copy is also available for inspection and reproduction at the address in paragraph h.

o. The licensee states its unequivocal intent to submit an application for a new license for Project No. 7320. Pursuant to 18 CFR 16.8, 16.9, and 16.10 each application for a new license and any competing license applications must be filed with the Commission at least 24 months prior to the expiration of the existing license. All applications for license for this project must be filed by June 30, 2013.

p. Register online at http://www.ferc.gov/docs-filing/esubscription.asp to be notified via e-mail of new filing and issuances related to this or other pending projects. For assistance, contact FERC Online Support.

Kimberly D. Bose,
Secretary.

[FR Doc. 2010-20653 Filed 8-19-10; 8:45 am]

BILLING CODE 6717-01-P